DEPARTMENT OF JUSTICE

Notice of Lodging Proposed Consent Decree

In accordance with Departmental Policy, 28 CFR 50.7, notice is hereby given that a proposed Consent Decree in United States v. BK IV AS, LLC, Civ. No. 2:07-652-FtM-34-SPC, was lodged with the United States District Court for the Middle District of Florida on October 11, 2007. This proposed Consent Decree concerns a complaint filed by the United States against BK IV AS, LLC, pursuant to section 301(a) of the Clean Water Act (“CWA”), 33 U.S.C. 1311(a), to obtain injunctive relief from and impose civil penalties against the Defendant for violating the Clean Water Act by discharging pollutants without a permit into waters of the United States. The proposed Consent Decree resolves these allegations by requiring the Defendant to restore the impacted areas and to pay a civil penalty.

The Department of Justice will accept written comments relating to this proposed Consent Decree for thirty (30) days from the date of publication of this Notice. Please address comments to Stephen Samuels, U.S. Department of Justice, Environment and Natural Resources Division, Environmental Defense Section, P.O. Box 23986, Washington, DC 20006-3986 and refer to United States v. BK IV AS, LLC, DJ # 90-5-1-1-18124.

The proposed Consent Decree may be examined at the Clerk's Office, United States District Court for the Middle District of Florida, 2-194 United States Courthouse and Federal Bldg., 2110 First Street, Fort Myers, FL 33901. In addition, the proposed Consent Decree may be viewed at http://www.usdoj.gov/enrd/Consent_Decrees.html.

Stephen Samuels,
Assistant Chief, Environment Defense Section, Environment & Natural Resources Division.

[FR Doc. 07-5258 Filed 10-23-07; 8:45 am]

BILLING CODE 4410-15-M